DEPARTMENT OF HEALTH AND HUMAN SERVICES

Administration for Children and Families

Submission for Office of Management and Budget Review; Refugee Support Services (RSS) and RSS Set Aside Sub-Agency List (Office of Management and Budget #0970-0556)

AGENCY: Office of Refugee Resettlement, Administration for Children and Families, U.S. Department of Health and Human Services.

ACTION: Request for public comments.

SUMMARY: The Administration for Children and Families (ACF) Office of Refugee Resettlement (ORR) is requesting a 3-year extension of the Refugee Support Services (RSS) and RSS Set Aside Sub-Agency List (Office of Management and Budget #0970-0556). ORR is not proposing any changes to the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The RSS and RSS Set Aside Sub-Agency List requests grantees to provide the agency name, city, state, website, and funding amount for each contracted sub-grantee.

The information will be used for national resource mapping pertaining to ORR RSS funding at the local level. Improved communication and the knowledge of all local providers is important to ORR's overall oversight of the program. In addition to RSS formula funding to states and state replacement agencies who then issue sub-awards to local providers, ORR also awards discretionary grants that directly fund local refugee service providers. This report will continue to provide ORR a complete picture of the availability all ORR resources to assist newly arrived refugees at the local level increasing our ability to identify gaps or target areas of need.

Respondents: State agencies and replacement designees under 45 CFR 400.301(c) administering or supervising the administration of programs.

Annual Burden Estimates
Instrument | Total number of respondents | Annual number of responses per respondent | Average burden hours per response | Annual burden hours
RSS and RSS Set Aside Sub-grantee List | 59 | 1 | 2 | 118

Authority: Refugee Act of 1980 [Immigration and Nationality Act, title IV, chapter 2, section 412 (e)] and 45 CFR 400.28.

Mary C. Jones,
ACF/OPRE Certifying Officer.

[FR Doc. 2024-14165 Filed 6-27-24; 8:45 am]

BILLING CODE 4184-45-P